DEPARTMENT OF COMMERCE

International Trade Administration

[A-570-849]

Certain Cut-to-Length Carbon Steel Plate From the People's Republic of China: Preliminary Results of Antidumping Administrative Review and Preliminary Determination of No Shipments; 2013-2014

AGENCY: Enforcement and Compliance, International Trade Administration, Department of Commerce.

DATES: Effective Date: August 11, 2015.

SUMMARY: The Department of Commerce (“Department”) is conducting an administrative review of the antidumping duty order on certain cut-to-length carbon steel plate (“CTL plate”) from the People's Republic of China (“PRC”) for the period of review (“POR”) November 1, 2013, through October 31, 2014. This review covers six PRC companies.¹ The Department preliminarily finds that five of the six companies under review have not demonstrated their eligibility for separate rate status, and are part of the PRC-wide entity. The Department preliminarily finds that one of the companies under review made no shipments of subject merchandise during the POR.

¹ See Initiation of Antidumping and Countervailing Duty Administrative Reviews, 79 FR 76956 (December 23, 2014) (“Initiation Notice”). The companies under review are as follows: Hebei Iron & Steel Co., Ltd. (“Hebei Iron”); Hunan Valin Xiangtan Iron & Steel Co., Ltd. (“Hunan Valin”); Jiangyin Xingcheng Plastic Chemical Co., Ltd. (“Jiangyin Plastic”); Jiangyin Xingcheng Special Steel Works Co., Ltd. (“Jiangyin Steel”); Wuyang Iron & Steel Co, Ltd. (“Wuyang Iron”); and Xiamen C&D Paper & Pulp Co., Ltd. (“Xiamen Paper”).

FOR FURTHER INFORMATION CONTACT: Patrick O'Connor, AD/CVD Operations, Office IV, Enforcement & Compliance, International Trade Administration, U.S. Department of Commerce, 14th Street and Constitution Avenue NW., Washington, DC 20230; telephone: (202) 482-0989.

SUPPLEMENTARY INFORMATION:

Scope of the Order

The product covered by the order is certain cut-to-length carbon steel plate from the PRC.² This merchandise is currently classified in the Harmonized Tariff Schedule of the United States (“HTSUS”) under item numbers 7208.40.3030, 7208.40.3060, 7208.51.0030, 7208.51.0045, 7208.51.0060, 7208.52.0000, 7208.53.0000, 7208.90.0000, 7210.70.3000, 7212.40.5000, and 7212.50.0000. Although the HTSUS subheadings are provided for convenience and customs purposes, the written description of the scope of the order is dispositive.

² See Decision Memorandum for the Preliminary Results of the Antidumping Duty Administrative Review of Certain Cut-to-Length Carbon Steel Plate from the People's Republic of China, issued concurrently with this notice, for a complete description of the Scope of the Order (“Preliminary Results Decision Memorandum”).

Methodology

The Department conducted this review in accordance with section 751(a)(1)(B) of the Tariff Act of 1930, as amended (“the Act”). For a full discussion of the decisions taken in these preliminary results, see the Preliminary Results Decision Memorandum. The Preliminary Results Decision Memorandum is a public document and is on file electronically via Enforcement and Compliance's Antidumping and Countervailing Duty Centralized Electronic Service System (“ACCESS”). ACCESS is available to registered users at http://access.trade.gov and is available to all parties in the Central Records Unit, room B8024 of the main Department of Commerce building. In addition, a complete version of the Preliminary Results Decision Memorandum can be accessed directly on the Internet at http://enforcement.trade.gov/frn//. The signed Preliminary Results Decision Memorandum and the electronic versions of the Preliminary Results Decision Memorandum are identical in content.

Separate Rates

The following companies failed to submit a separate rate application or separate rate certification: Hebei Iron; Hunan Valin; Jiangyin Plastic; Jiangyin Steel; and Xiamen Paper. Therefore, the Department preliminarily determines that these companies have not demonstrated their eligibility for separate rate status and are part of the PRC-wide entity.³ The PRC-wide entity rate is 128.59 percent.

³ See Initiation Notice, 79 FR 76956, 76957 (“All firms listed below that wish to qualify for separate rate status in the administrative reviews involving NME countries must complete, as appropriate, either a separate rate application or certification . . .”).

Preliminary Determination of No-Shipments

Wuyang Iron submitted a timely-filed certification that it had no exports, sales, or entries of subject merchandise during the POR,⁴ and a query of U.S. Customs and Border Protection (“CBP”) data did not show any POR entries of Wuyang Iron's subject merchandise.⁵ In addition, CBP did not identify any entries of subject merchandise from Wuyang Iron during the POR in response to an inquiry from the Department asking CBP for such information.⁶ Based on the foregoing, the Department preliminarily determines that Wuyang Iron did not have any reviewable transactions during the POR. For additional information regarding this determination, see the Preliminary Results Decision Memorandum.

⁴ See Letter from Wuyang Iron to the Department, Re: “Administrative Review of Certain Cut-to-Length Carbon Steel Plate from China: Wuyang Iron & Steel's No Shipment Letter,” dated January 12, 2015.

⁵ See Memorandum from Patrick O'Connor, International Trade Compliance Analyst, to the File, Re: “Results of Customs and Border Protection Query,” dated January 9, 2015.

⁶ See CBP Message Number 5173301 dated June 22, 2015.

Consistent with an announced refinement to its assessment practice in NME cases, the Department is not rescinding this administrative review for Wuyang Iron, but intends to complete the review and issue appropriate instructions to CBP based on the final results of the review.⁷

⁷ See Non-Market Economy Antidumping Proceedings: Assessment of Antidumping Duties, 76 FR 65694, 65694-95 (October 24, 2011) and the “Assessment Rates” section, below.

Preliminary Results of Review

The Department preliminarily determines that Hebei Iron; Hunan Valin; Jiangyin Plastic; Jiangyin Steel; and Xiamen Paper are not eligible for separate rates status. Moreover, the Department preliminarily determines that Wuyang Iron did not have reviewable transactions during the POR.

Public Comment

Interested parties are invited to comment on the preliminary results and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Pursuant to 19 CFR 351.310(c), interested parties, who wish to request a hearing must submit a written request to the Assistant Secretary for Enforcement and Compliance, U.S. Department of Commerce, filed electronically using ACCESS. Electronically filed case briefs/written comments and hearing requests must be received successfully in their entirety by the Department's electronic records system, ACCESS, by 5 p.m. Eastern Time, within 30 days after the date of publication of this notice.⁸ Hearing requests should contain: (1) The party's name, address and telephone number; (2) the number of participants; and (3) a list of issues to be discussed. Issues raised in the hearing will be limited to those issues raised in the respective case briefs. If a request for a hearing is made, parties will be notified of the time and date of the hearing which will be held at the U.S. Department of Commerce, 1401 Constitution Avenue NW., Washington DC 20230.

⁸ See 19 CFR 351.310(c).

Unless extended, the Department intends to issue the final results of this administrative review, including the results of its analysis of the issues raised in any written briefs, not later than 120 days after the date of publication of this notice, pursuant to section 751(a)(3)(A) of the Act.

Assessment Rates

Upon issuance of the final results, the Department will determine, and CBP shall assess, antidumping duties on all appropriate entries covered by this review.⁹ The Department intends to issue assessment instructions to CBP 15 days after the publication date of the final results of this review. The Department intends to instruct CBP to liquidate any entries of subject merchandise from Hebei Iron, Hunan Valin; Jiangyin Plastic, Jiangyin Steel, and Xiamen Paper, at 128.59 percent (the PRC-wide rate).

⁹ See 19 CFR 351.212(b)(1).

Additionally, pursuant to the Department's practice in NME cases, if we continue to determine that Wuyang Iron had no shipments of subject merchandise, any suspended entries of subject merchandise from Wuyang Iron will be liquidated at the PRC-wide rate.¹⁰

¹⁰ For a full discussion of this practice, see Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date of the final results of review, as provided by section 751(a)(2)(C) of the Act: (1) For previously investigated or reviewed PRC and non-PRC exporters which are not under review in this segment of the proceeding but which have separate rates, the cash deposit rate will continue to be the exporter-specific rate published for the most recent period; (2) for all PRC exporters of subject merchandise that have not been found to be entitled to a separate rate, including Hebei Iron; Hunan Valin; Jiangyin Plastic; Jiangyin Steel; and Xiamen Paper, the cash deposit rate will be the PRC-wide rate of 128.59 percent; and (3) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: August 3, 2015.
Ronald K. Lorentzen,
Acting Assistant Secretary for Enforcement and Compliance.

Appendix—List of Topics Discussed in the Preliminary Results Decision Memorandum

Summary

Background

Scope of the Order

Discussion of the Methodology

Companies that Have Not Demonstrated Eligibility for Separate Rate Status

Preliminary Determination of No Shipments

Allegation of Duty Evasion

Recommendation

[FR Doc. 2015-19710 Filed 8-10-15; 8:45 am]

BILLING CODE 3510-DS-P